DEPARTMENT OF THE INTERIOR

Bureau of Indian Affairs

[2231A2100DD/AAKC001030/A0A501010.999900; OMB Control Number 1076-0136, 1076-0157, 1076-0161, 1076-0167, 1076-0174, 1076-0180, 1076-0181, 1076-0186, 1076-0191, 1076-0192, 1076-0193]

Agency Information Collection Activities; Request for Comment on Fiscal Year 2023 Expirations Under the Paperwork Reduction Act

AGENCY: Bureau of Indian Affairs, Interior.

ACTION: Notice of information collection; request for comment.

SUMMARY: In accordance with the Paperwork Reduction Act of 1995, we, the Bureau of Indian Affairs (BIA), Bureau of Indian Education (BIE), and Office of the Assistant Secretary—Indian Affairs (AS-IA) are proposing to renew eleven (11) information collections. Office of Management and Budget (OMB) Control Number 1076-0136, 1076-0157, 1076-0161, 1076-0167, 1076-0174, 1076-0180, 1076-0181, 1076-0186, 1076-0191, 1076-0192, and 1076-0193.

DATES: Interested persons are invited to submit comments on or before September 20, 2022.

ADDRESSES: Send your comments on the information collection request (ICR) by mail to Steven Mullen, Information Collection Clearance Officer, Office of Regulatory Affairs and Collaborative Action—Indian Affairs, U.S. Department of the Interior, 1001 Indian School Road NW, Suite 229, Albuquerque, New Mexico 87104; or by email to comments@bia.gov. Please reference the relevant OMB Control Number in the subject line of your email.

FOR FURTHER INFORMATION CONTACT: Steven Mullen, Information Collection Clearance Officer, by email at comments@bia.gov or telephone at (202) 924-2650. Individuals in the United States who are deaf, deafblind, hard of hearing, or have a speech disability may dial 711 (TTY, TDD, or TeleBraille) to access telecommunications relay services. You may also view the ICR at http://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether the collection of information is necessary for the proper performance of the functions of the agency, including whether the information will have practical utility;

(2) The accuracy of our estimate of the burden for the collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve the ICR. Before including your address, phone number, email address, or other personal identifying information in your comment, you should be aware that your entire comment—including your personal identifying information—may be made publicly available at any time. While you can ask us in your comment to withhold your personal identifying information from public review, we cannot guarantee that we will be able to do so.

OMB Control Number 1076-0136

Abstract: We, the Bureau of Indian Affairs (BIA) are proposing to renew an information collection. The Indian Self-Determination and Education Assistance Act (ISDEAA) authorizes and directs the Bureau of Indian Affairs (BIA) to contract or compact with and fund Indian Tribes and Tribal organizations that choose to take over the operation of programs, services, functions and activities (PSFAs) that would otherwise be operated by the BIA. These PSFAs include programs such as law enforcement, social services, and tribal priority allocation programs. The data is maintained by BIA's Office of Indian Services, Division of Self-Determination.

Title of Collection: Indian Self-Determination and Education Assistance Act Programs.

OMB Control Number: 1076-0136.

Form Number: None.

Type of Review: Extension of a currently approved collection.

Respondents/Affected Public: Federally recognized Indian Tribes, Tribal organizations and contractors.

Total Estimated Number of Annual Respondents: 567.

Total Estimated Number of Annual Responses: 7,063.

Estimated Completion Time per Response: Varies from 4 hours to 122 hours.

Total Estimated Number of Annual Burden Hours: 127,127 hours.

Respondent's Obligation: Required to Obtain a Benefit.

Frequency of Collection: Annually.

Total Estimated Annual Nonhour Burden Cost: $0.

OMB Control Number 1076-0157

Abstract: We, the Bureau of Indian Affairs (BIA) are proposing to renew an information collection. The “American Indian Agricultural Resource Management Act,” (AIARMA), 25 U.S.C. 3701 et seq., authorizes the Secretary of the Interior, in participation with the beneficial owner of the land, to manage Indian agricultural lands in a manner consistent with identified Tribal goals and priorities for conservation, multiple use, sustained yield, and consistent with trust responsibilities. The regulations at 25 CFR 166, Grazing Permits; implement the AIARMA and include the specific information collection requirements. Submission of this information allows individuals or organizations to acquire or modify a grazing permit on Tribal land, individually-owned Indian land, or government land and to meet bonding requirements.

Title of Collection: Grazing Permits.

OMB Control Number: 1076-0157.

Form Number: Form 5-5423—Performance Bond, Form 5-5514—Bid for Grazing Privileges, 5-5515 Grazing Permit, Form 5-5516—Grazing Permit for Organized Tribes, Form 5-5517—Free Grazing Permit, Form 5-5519—Cash Penal Bond, Form 5-5520—Power of Attorney, Form 5-5521—Certificate and Application for On-and-Off Grazing Permit, Form 5522—Modification of Grazing Permit, Form 5-5523—Assignment of Grazing Permit, Form 5-5524—Application for Allocation of Grazing Privileges, 5-5525 Authority to Grant Grazing Privileges on Allotted Lands, Form 5-5528—Livestock Crossing Permit, and Form 5-5529—Removable Range Improvement Records.

Type of Review: Extension of a currently approved collection.

Respondents/Affected Public: Tribes, Tribal organizations, individual Indians, and non-Indian individuals and associations.

Total Estimated Number of Annual Respondents: 7,810.

Total Estimated Number of Annual Responses: 7,810.

Estimated Completion Time per Response: Varies from 20 minutes to one hour, with an average of less than one hour per response.

Total Estimated Number of Annual Burden Hours: 2,701.

Respondent's Obligation: Required to Obtain a Benefit.

Frequency of Collection: Annually.

Total Estimated Annual Nonhour Burden Cost: $0.

OMB Control Number 1076-0161

Abstract: We, the Bureau of Indian Affairs are proposing to renew an information collection. The information submitted by Tribes allows them to participate in planning the development of transportation needs in their area; the information provides data for administration, documenting plans, and for oversight of the program by the Department. Some of the information such as the providing inventory updates (25 CFR 170.444), the development of a long-range transportation plan (25 CFR 170.411 and 170. 412), the development of a Tribal transportation improvement program (25 CFR 170.421), and annual report (25 CFR 170.420) are mandatory to determine how funds will allocated to implement the Tribal Transportation Program.

Title of Collection: Tribal Transportation Program, 25 CFR 170.

OMB Control Number: 1076-0161.

Form Number: None.

Type of Review: Extension of a currently approved collection.

Respondents/Affected Public: Federally recognized Indian Tribes.

Total Estimated Number of Annual Respondents: 281 on average (each year).

Total Estimated Number of Annual Responses: 1,504 on average (each year).

Estimated Completion Time per Response: Varies from 0.5 hours to 40 hours.

Total Estimated Number of Annual Burden Hours: 20,928 hours.

Respondent's Obligation: Some of the information, such as public hearing requirements, is necessary for public notification and involvement (25 CFR 170.437 and 170.438), while other information, such as a request for exception from design standards (25 CFR 170.456), is voluntary.

Frequency of Collection: On occasion.

Total Estimated Annual Nonhour Burden Cost: $0.

OMB Control Number 1076-0167

Abstract: We, the Assistant Secretary—Indian Affairs (AS-IA) are proposing to renew an information collection. Submission of this information is required for federally recognized Indian Tribes to apply for, implement, reassume, or rescind a Tribal Energy Resource Agreement (TERA) that has been entered into under 25 U.S.C. 3501 et. seq., and 25 CFR 224. This collection also requires the Tribe to notify the public of certain actions and allows a petition from the public to be submitted to Interior to inform of possible noncompliance with a TERA.

Title of Collection: Tribal Energy Resource Agreements, 25 CFR 224.

OMB Control Number: 1076-0167.

Form Number: None.

Type of Review: Extension of a currently approved collection.

Respondents/Affected Public: Federally recognized Indian Tribes and the public.

Total Estimated Number of Annual Respondents: 1 on average (each year).

Total Estimated Number of Annual Responses: 11 on average (each year).

Respondent's Obligation: Required to Obtain a Benefit.

Frequency of Collection: On occasion.

Estimated Completion Time per Response: Varies from 32 hours to 432 hours.

Total Estimated Number of Annual Burden Hours: 2,960 hours.

Total Estimated Annual Nonhour Burden Cost: $18,100.

OMB Control Number 1076-0174

Abstract: We, the Bureau of Indian Affairs are proposing to renew an information collection. The Office of Indian Economic Development (OIED) administers and manages the energy resource development grant program under the Energy and Minerals Development Program (EMDP). Congress may appropriate funds to EMDP on a year-to-year basis. When funding is available, OIED may solicit proposals for energy resource development projects from Indian Tribes and Tribal energy resource development organizations for use in carrying out projects to promote the integration of energy resources, and to process, use or develop those energy resources on Indian land. The projects may be in the areas of exploration, assessment, development, feasibility, or market studies. Indian Tribes that would like to apply for an EMDP grant must submit an application. Quarterly reports assist OIED staff with project monitoring of the EMDP program and ensure that projects are making adequate progress in achieving the project's objectives.

Title of Collection: Energy and Mineral Development Program Grants.

OMB Control Number: 1076-0174.

Form Number: None.

Type of Review: Extension of a currently approved collection.

Respondents/Affected Public: Federally recognized Indian Tribes with Indian land.

Total Estimated Number of Annual Respondents: 83 applicants per year; 25 project participants each year.

Total Estimated Number of Annual Responses: 83 per year for applications; 100 per year for progress reports.

Estimated Completion Time per Response: 100 hours per application; 1.5 hours per progress report.

Total Estimated Number of Annual Burden Hours: 8,450 hours (8,300 for applications and 150 for progress reports).

Respondent's Obligation: Required to Obtain or Retain a Benefit.

Frequency of Collection: Once per year for applications; 4 times per year for progress reports.

Total Estimated Annual Nonhour Burden Cost: $0.

OMB Control Number 1076-0180

Abstract: We, the Bureau of Indian Affairs (BIA) are proposing to renew an information collection. Congress passed legislation specifically addressing oil and gas leasing on Osage lands and requiring Secretarial approval of leases. See 34 Stat. 543, section 3, as amended. The regulations art 25 CFR 226 implement that statute by specifying what information a lessee must provide related to drilling, development, and production of oil and gas on Osage reservation land. The oil, gas, and land are assets that the United States holds in trust or restricted status for Indian beneficiaries. The information collections in 25 CFR 226 are necessary to ensure that the beneficial owners of the mineral rights are provided the royalties due them, ensure that the oil and gas trust assets are protected, and to ensure that the surface estate assets are protected.

Title of Collection: Leasing of Osage Reservation lands for Oil and Gas Mining.

OMB Control Number: 1076-0180.

Form Number: None.

Type of Review: Extension of a currently approved collection.

Respondents/Affected Public: Individual Indians, businesses, and Tribal authorities.

Total Estimated Number of Annual Respondents: 1,001.

Total Estimated Number of Annual Responses: 48,539.

Estimated Completion Time per Response: Varies from 15 minutes to eight hours.

Total Estimated Number of Annual Burden Hours: 22,731.

Respondent's Obligation: Required to Obtain a Benefit.

Frequency of Collection: Varies from yearly to monthly.

Total Estimated Annual Nonhour Burden Cost: $4,535.

OMB Control Number 1076-0181

Abstract: We, the Bureau of Indian Affairs (BIA) are proposing to renew an information collection. This information collection is necessary for BIA to authorize rights-of-way to cross land held in trust or restricted status on behalf of individual Indians and tribes, for a specific purpose, including but not limited to building and operating a line or road. The statutory authority for this program is at 25 U.S.C. 323-328. The regulations at 25 CFR 169 implement the statutory authority. BIA uses the information it collects to determine whether or not to grant a right-of-way, the value of the right-of-way, the appropriate compensation due to landowners, the amount of administrative fees that must be levied, and the penalties, if any, that should be assessed for violations of the right-of-way provisions.

Title of Collection: Rights-of-Way on Indian Land.

OMB Control Number: 1076-0181.

Form Number: Right-of-Way Application.

Type of Review: Extension of a currently approved collection.

Respondents/Affected Public: Tribes, Indian landowners and the public.

Total Estimated Number of Annual Respondents: 3,200.

Total Estimated Number of Annual Responses: 3,200.

Estimated Completion Time per Response: Varies from 15 minutes to 35 hours (for the application).

Total Estimated Number of Annual Burden Hours: 39,050.

Respondent's Obligation: Required to Obtain a Benefit.

Frequency of Collection: On occasion.

Total Estimated Annual Nonhour Burden Cost: $1,100,000.

OMB Control Number 1076-0186

Abstract: We, the Bureau of Indian Affairs (BIA) are proposing to renew an information collection. The Indian Child Welfare Act (ICWA or Act), 25 U.S.C. 1901 et seq., imposes certain requirements for child custody proceedings that occur in State court when a child is an “Indian child.” The regulations, primarily located in Subpart I of 25 CFR 23, provide procedural guidance for implementing ICWA, which necessarily involves information collections to determine whether the child is Indian, provide notice to the Tribe and parents or Indian custodians, and maintain records. The information collections are conducted during a civil action (i.e., a child custody proceeding). While these civil actions occur in State court, and the U.S. is not a party to the civil action, the civil action is subject to the Federal statutory requirements of ICWA, which the Secretary of the Interior oversees under the Act and general authority to manage Indian affairs under 25 U.S.C. 2 and 9.

Title of Collection: Indian Child Welfare Act (ICWA) Proceedings in State.

OMB Control Number: 1076-0186.

Form Number: None.

Type of Review: Extension of a currently approved collection.

Respondents/Affected Public: Individuals/households and State/Tribal governments.

Total Estimated Number of Annual Respondents: 7,556.

Total Estimated Number of Annual Responses: 98,069.

Estimated Completion Time per Response: Varies from 15 minutes to 12 hours, depending on the activity.

Total Estimated Number of Annual Burden Hours: 301,811.

Respondent's Obligation: Required to Obtain or Retain a Benefit.

Frequency of Collection: On occasion.

Total Estimated Annual Nonhour Burden Cost: $309,955.

OMB Control Number 1076-0191

Abstract: We, the Bureau of Indian Education (BIE) are proposing to renew an information collection. This information collection is necessary to implement the requirements of the Elementary and Secondary Education Act of 1965 (ESEA), as amended by the Every Student Succeeds Act (ESSA). The ESEA requires all schools, including BIE-funded and operated schools, to ensure that all children have a fair, equal, and significant opportunity to obtain a high-quality education and reach, at a minimum, proficiency on challenging academic standards and aligned assessments. In order to accomplish these goals, the Secretary will develop or implement standards, assessments, and an accountability-system requirements for BIE-funded schools. Tribal governing bodies and school boards are able to waive the Secretary's requirements, in part in or whole. However, such entities are required to submit a proposal for alternative requirements for approval by the Secretary and the Secretary of Education prior to implementation of such alternative requirements.

Title of Collection: Standards, Assessments, and Accountability System Waiver.

OMB Control Number: 1076-0191.

Form Number:

Type of Review: Extension of a currently approved collection.

Respondents/Affected Public: Indian Tribes and BIE-funded school boards.

Total Estimated Number of Annual Respondents: 2.

Total Estimated Number of Annual Responses: 2.

Estimated Completion Time per Response: 500 hours.

Total Estimated Number of Annual Burden Hours: 1,000 hours.

Respondent's Obligation: Required to obtain or retain a benefit.

Frequency of Collection: On occasion.

Total Estimated Annual Nonhour Burden Cost: $0.

OMB Control Number 1076-0192

Abstract: We, the Bureau of Indian Education (BIE) are proposing to renew an information collection. The BIE supports efforts to revitalize and maintain Native languages and expand the use of language immersion programs in its schools. The funding opportunity is offered under the authority of the Snyder Act, 25 U.S.C. 13-1, to expend funds appropriated by Congress on Indian education programming. BIE uses the information provided by BIE-funded schools in their application to determine whether they are eligible for the Native language immersion grant and to determine whether the school is using the funding for the stated purpose of promoting Native language immersion programs.

Title of Collection: Native Language Immersion Grant.

OMB Control Number: 1076-0192.

Form Number: SF 424A.

Type of Review: Extension of a currently approved collection.

Respondents/Affected Public: BIE-funded schools.

Total Estimated Number of Annual Respondents: 15.

Total Estimated Number of Annual Responses: 270.

Estimated Completion Time per Response: Varies from 1 to 67 hours, depending on activity.

Total Estimated Number of Annual Burden Hours: 1,335.

Respondent's Obligation: Required to obtain or retain a benefit.

Frequency of Collection: On occasion.

Total Estimated Annual Nonhour Burden Cost: $0.

OMB Control Number 1076-0193

Abstract: We, the Bureau of Indian Education (BIE) are proposing to renew an information collection. The regulations at 25 CFR 273, Subpart E, implement in section 7(c) Contracting Party Student Count Reporting Compliance, of the Johnson-O'Malley Supplemental Indian Education Program Modernization Act (JOM Modernization Act). These regulations require the BIE to implement an annual reporting requirement for existing JOM contractors to report a student count served by each contracting party, and an accounting of the amounts and purposes for which the contract funds were expended. The information received from the annual reporting requirements of the contractor will allow the Secretary to provide an annual report, including the most recent determination of the number of eligible Indian students served by each contracting party, recommendation on appropriate funding levels, and an assessment of the contracts receiving JOM contracts, to the appropriate Committee and Subcommittees in the Senate and of the House of Representatives.

Title of Collection: Johnson O'Malley Student Count Annual Report.

OMB Control Number: 1076-0193.

Form Number: None.

Type of Review: Extension of a currently approved collection.

Respondents/Affected Public: Tribal organizations, States, public school districts, Indian corporations.

Total Estimated Number of Annual Respondents: 312.

Total Estimated Number of Annual Responses: 1,197.

Estimated Completion Time per Response: Ranges from 2 to 80 hours.

Total Estimated Number of Annual Burden Hours: 11,450.

Respondent's Obligation: Required to Obtain a Benefit.

Frequency of Collection: Annually.

Total Estimated Annual Nonhour Burden Cost: $0.

Authority

An agency may not conduct or sponsor and a person is not required to respond to a collection of information unless it displays a currently valid OMB control number. The authority for these ICR actions is the Paperwork Reduction Act of 1995 (44 U.S.C. 3501 et seq.).

Steven Mullen,
Information Collection Clearance Officer, Office of Regulatory Affairs and Collaborative, Office of the Assistant Secretary—Indian Affairs.

[FR Doc. 2022-15755 Filed 7-21-22; 8:45 am]

BILLING CODE 4337-15-P